COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a service to the Procurement List that will be provided by the nonprofit agency employing persons who are blind or have other severe disabilities, and deletes products and a service from the Procurement List previously furnished by such agencies.

DATES: Effective Date: 2/21/2016

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 7/17/2015 (80 FR 42481-42483), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Dining Facility Attendant Service

Service Mandatory For: US Army, Mission and Installation Contracting Command, 1792 12th Street Fort Riley, KS

Mandatory Source(s) of Supply: Lakeview Center, Inc., Pensacola, FL

Contracting Activity: Dept of the Army, W6QM MICC-FT RILEY, Fort Riley, KS

Deletions

On 12/18/2015 (80 FR 79031-79032), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

Product Name(s)—NSN(s): Paper, Mimeograph and Duplicating

7530-00-224-6754

7530-00-239-9747

7530-00-221-0805

7530-01-074-1832

7530-00-231-7125

Paper, Duplicating, Liquid Process, White, 8 1/2″ x 11″

7530-00-240-4768

Mandatory Source(s) of Supply: Louisiana Association for the Blind, Shreveport, LA

Contracting Activity: General Services Administration, New York, NY

Product Name(s)—NSN(s): Module, Medical System—8465-00-NSH-0063

Mandatory Source(s) of Supply: ServiceSource, Inc., Alexandria, VA

Contracting Activity: W6QK ACC-APG Natick, Natick, MA

Service

Service Type: Janitorial/Custodial Service, US Army Reserve, Lemma Whyman USARC, 145 Charlotte Street, Canandaigua, NY

Mandatory Source(s) of Supply: NYSARC, Inc., Seneca-Cayuga Counties Chapter, Waterloo, NY

Contracting Activity: Dept of the Army, W6QK ACC-PICA, Picatinny Arsenal, NJ

Barry S. Lineback,
Director, Business Operations.

[FR Doc. 2016-01278 Filed 1-21-16; 8:45 am]

BILLING CODE 6353-01-P